DEPARTMENT OF COMMERCE

International Trade Administration

[A-570-831]

Amended Final Results of Antidumping Duty Administrative Review: Fresh Garlic From the People's Republic of China

AGENCY: Import Administration, International Trade Administration, Department of Commerce.

SUMMARY: On June 22, 2007, the Department of Commerce (“Department”) published in the Federal Register the final results of the eleventh administrative review and concurrent new shipper reviews of the antidumping duty order on fresh garlic from the Peoples Republic of China (“PRC”). See Fresh Garlic from the People's Republic of China: Final Results and Partial Rescission of the Eleventh Administrative Review and New Shipper Reviews, 72 FR 34438 (June 22, 2007) “(Final Results”) and accompanying Issues and Decision Memorandum. The period of review (“POR”) covered November 1, 2004, through October 31, 2005. We are amending our Final Results to correct ministerial errors made in the calculation of the antidumping duty margin for Jinxiang Shanyang Freezing Storage Co., Ltd. (“Shanyang”), pursuant to section 751(h) of the Tariff Act of 1930, as amended (“Act”).

EFFECTIVE DATE: July 20, 2007.

FOR FURTHER INFORMATION CONTACT: Irene Gorelik, AD/CVD Operations, Office 9, Import Administration, International Trade Administration, U.S. Department of Commerce, 14th Street and Constitution Avenue, NW., Washington, DC 20230; telephone: (202) 482-6905.

SUPPLEMENTARY INFORMATION:

Background

On June 22, 2007, the Department published the Final Results and corresponding issues and decision memorandum. See “Memorandum from Stephen J. Caleys, Deputy Assistant Secretary for Import Administration, to David M. Spooner, Assistant Secretary for Import Administration, Subject: Antidumping Duty Order on Fresh Garlic from the People's Republic of China: Issues and Decision Memorandum for the Eleventh Administrative Review and New Shipper Reviews” (“Final Decision Memo”).

On June 18, 2007, Fresh Garlic Producers Association and its individual members, Christopher Ranch L.L.C., the Garlic Company, Valley Garlic, and Vessey and Company, (“Petitioners”) submitted a letter requesting a two-day extension to submit ministerial error comments. Accordingly, the Department extended the deadline by two days to June 20, 2007, to submit any ministerial error allegations with respect to the Final Results. On June 20, 2007, Shanyang filed timely clerical error allegations with respect to the Department's antidumping duty margin calculation in the Final Results. On June 25, 2007, Petitioners filed timely rebuttal comments to Shanyang's clerical error allegations.

Scope to Order

The products covered by this antidumping duty order are all grades of garlic, whole or separated into constituent cloves, whether or not peeled, fresh, chilled, frozen, provisionally preserved, or packed in water or other neutral substance, but not prepared or preserved by the addition of other ingredients or heat processing. The differences between grades are based on color, size, sheathing, and level of decay. The scope of this order does not include the following: (a) Garlic that has been mechanically harvested and that is primarily, but not exclusively, destined for non-fresh use; or (b) garlic that has been specially prepared and cultivated prior to planting and then harvested and otherwise prepared for use as seed. The subject merchandise is used principally as a food product and for seasoning. the subject garlic is currently classifiable under subheadings 0703.20.0010, 0703.20.0020, 0703.20.0090, 0710.80.7060, 0710.80.9750, 0711.90.6000, and 2005.90.9700 of the Harmonized Tariff Schedule of the United States (“HTSUS”). Although the HTSUS subheadings are provided for convenience and customs purposes, our written description of the scope of this order is dispositive. In order to be excluded from the antidumping duty order, garlic entered under the HTSUS subheadings listed above that is: (1) Mechanically harvested and primarily, but not exclusively, destined for non-fresh use; or (2) specially prepared and cultivated prior to planting and then harvested and otherwise prepared for use as seed must be accompanied by declarations to U.S. Customs and Border Protection (“CBP”) to that effect.

Ministerial Errors

A ministerial error is defined in section 751(h) of the Act and further clarified in 19 CFR 351.224(f) as “an error in addition, subtraction, or other arithmetic function, clerical error resulting from inaccurate copying, duplication, or the like, and any other similar type of unintentional error which the Secretary considers ministerial.”

After analyzing all interested parties’ comments, we have determined, in accordance with 19 CFR 351.224(e), that ministerial errors existed in certain calculations for Shanyang in the Final Results. Correction of these errors results in a change to Shanyang’s final antidumping duty margin. Additionally, the rate change for Shanyang also affects the deposit rates for the companies subject to the administrative review which are receiving a separate rate.¹ The rate for the PRC-wide entity remains unchanged. For a detailed discussion of these ministerial errors, as well as the Department's analysis, see “Memorandum to James C. Doyle, Director, Office 9, Import Administration, through Alex Villanueva, Program Manager, Office 9, Import Administration, from Irene Gorelik, Case Analyst, Office 9, Subject: Analysis of Ministerial Error Allegations,” (July 12, 2007) (“Ministerial Error Allegation Memorandum”). the Ministerial Error Allegation Memorandum is on file in the Central Records Unit, room B-099 in the main Department building.

¹ The companies subject to the administrative review which are receiving a separate rate are: Fook Huat Tong Kee Foodstuffs Co., Ltd.; Heze Ever-Best International Trade Co., Ltd.; Huaiyang Hongda Dehydrated Vegetable Company; Linshu Dading Private Agricultural Products Co., Ltd.; and Taiyan Ziyang Food Co., Ltd.

Therefore, in accordance with section 751(h) of the Act and 19 CFR 351.224(e), we are amending the Final Results of the administrative review of fresh garlic from the PRC. The revised weighted-average dumping margins are detailed below. For company-specific calculation, see “Memorandum from Irene Gorelik, Case Analyst, through Alex Villanueva, to the File, Subject: Analysis Memorandum for the Amended Final Results for Shanyang,” (July 12, 2007). The revised final weighted-average dumping margins are as follows:

Fresh Garlic From the PRC-Weighted-Average Dumping Margins
Manufacturer exporter | Weighted-average deposit rate (percent)
Jinxiang Shanyang Freezing Storage Co., Ltd | 24.73
Fook Huat Tong Kee Foodstuffs Co., Ltd | 9.84
Heze Ever-Best International Trade Co., Ltd | 9.84
Huaiyang Hongda Dehydrated Vegetable Company | 9.84
Linshu Dading Private Agricultural Products Co., Ltd | 9.84
Taiyan Ziyang Food Co., Ltd | 9.84

The Department shall determine, and CBP shall assess, antidumping duties on all appropriate entries based on the amended final results. For details on the assessment of antidumping duties on all appropriate entries, see Final Results.

These amended final results are published in accordance with section 751(h) and 777(i)(1) of the Act.

Dated: July 12, 2007.
David A. Spooner,
Assistant Secretary for Import Administration.

[FR Doc. 07-3518 Filed 7-19-07; 8:45 am]

BILLING CODE 3510-DS-M